DEPARTMENT OF ENERGY

Federal Energy Regulatory Commission

Combined Notice of Filings #1

Take notice that the Commission received the following electric rate filings:

Docket Numbers: ER12-954-001.

Applicants: Calpine Mid Merit, LLC.

Description: Calpine Mid Merit, LLC Refund Report Informational Filing to be effective N/A.

Filed Date: 5/16/13.

Accession Number: 20130516-5115.

Comments Due: 5 p.m. ET 6/6/13.

Docket Numbers: ER13-1258-003.

Applicants: Land O'Lakes, Inc.

Description: Inquiry Response to be effective 6/14/2013.

Filed Date: 5/16/13.

Accession Number: 20130516-5105.

Comments Due: 5 p.m. ET 6/6/13.

Docket Numbers: ER13-1277-001.

Applicants: PJM Interconnection, L.L.C.

Description: PJM Interconnection, L.L.C. Errata to Pending Filing—OA Schedule 12 Membership List to be effective 3/31/2013.

Filed Date: 5/16/13.

Accession Number: 20130516-5116.

Comments Due: 5 p.m. ET 6/6/13.

Docket Numbers: ER13-1507-000.

Applicants: NorthWestern Corporation.

Description: SA 683—SOCC Services Agreement with MATL LLP to be effective 7/15/2013.

Filed Date: 5/16/13.

Accession Number: 20130516-5108.

Comments Due: 5 p.m. ET 6/6/13.

Docket Numbers: ER13-1508-000.

Applicants: Entergy Arkansas, Inc.

Description: Entergy Arkansas, Inc. Unit Power Sales/Designated Power Purchase Tariff to be effective 12/19/2013.

Filed Date: 5/17/13.

Accession Number: 20130517-5037.

Comments Due: 5 p.m. ET 6/7/13.

Docket Numbers: ER13-1509-000.

Applicants: Entergy Gulf States Louisiana, L.L.C.

Description: Entergy Gulf States Louisiana, L.L.C. Unit Power Sales/Designated Power Purchase Tariff to be effective 12/19/2013.

Filed Date: 5/17/13.

Accession Number: 20130517-5038.

Comments Due: 5 p.m. ET 6/7/13.

Docket Numbers: ER13-1510-000.

Applicants: Entergy Louisiana, LLC.

Description: Entergy Louisiana, LLC Unit Power Sales/Designated Power Purchase Tariff to be effective 12/19/2013.

Filed Date: 5/17/13.

Accession Number: 20130517-5039.

Comments Due: 5 p.m. ET 6/7/13.

Docket Numbers: ER13-1511-000.

Applicants: Entergy Mississippi, Inc.

Description: Entergy Mississippi, Inc. Unit Power Sales/Designated Power Purchase Tariff to be effective 12/19/2013.

Filed Date: 5/17/13.

Accession Number: 20130517-5040.

Comments Due: 5 p.m. ET 6/7/13.

Docket Numbers: ER13-1512-000.

Applicants: Entergy New Orleans, Inc.

Description: Entergy New Orleans, Inc. Unit Power Sales/Designated Power Purchase Tariff to be effective 12/19/2013.

Filed Date: 5/17/13.

Accession Number: 20130517-5041.

Comments Due: 5 p.m. ET 6/7/13.

Docket Numbers: ER13-1513-000.

Applicants: Entergy Texas, Inc.

Description: Entergy Texas, Inc. Unit Power Sales/Designated Power Purchase Tariff to be effective 12/19/2013.

Filed Date: 5/17/13.

Accession Number: 20130517-5042.

Comments Due: 5 p.m. ET 6/7/13.

Docket Numbers: ER13-1514-000.

Applicants: Public Service Company of Colorado.

Description: Public Service Company of Colorado 2013-5-17_341-PSCo-TSGT Davis Interim CA to be effective 3/4/2013.

Filed Date: 5/17/13.

Accession Number: 20130517-5047.

Comments Due: 5 p.m. ET 6/7/13.

Docket Numbers: ER13-1515-000.

Applicants: Midcontinent Independent System Operator, Inc.

Description: Midcontinent Independent System Operator, Inc. 2013-05-17 RSP ARR to be effective 7/16/2013.

Filed Date: 5/17/13.

Accession Number: 20130517-5085.

Comments Due: 5 p.m. ET 6/7/13.

Docket Numbers: ER13-1516-000.

Applicants: ISO New England Inc.

Description: ISO New England Inc. Rhode Island Engine Genco LLC Resource Termination Filing.

Filed Date: 5/17/13.

Accession Number: 20130517-5097.

Comments Due: 5 p.m. ET 6/7/13.

Docket Numbers: ER13-1517-000.

Applicants: Massachusetts Electric Company.

Description: Massachusetts Electric Company Interconnection Agreement Between MECO and Trigen Revere for NECCO Cogen Plant to be effective 7/17/2013.

Filed Date: 5/17/13.

Accession Number: 20130517-5128.

Comments Due: 5 p.m. ET 6/7/13.

Docket Numbers: ER13-1518-000.

Applicants: PJM Interconnection, L.L.C.

Description: PJM Interconnection, L.L.C. Amendments to Schedule 9—PJM Settlement to be effective 7/17/2013.

Filed Date: 5/17/13.

Accession Number: 20130517-5140.

Comments Due: 5 p.m. ET 6/7/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 17, 2013.
Nathaniel J. Davis, Sr.,
Deputy Secretary.

[FR Doc. 2013-12475 Filed 5-24-13; 8:45 am]

BILLING CODE 6717-01-P